ENVIRONMENTAL PROTECTION AGENCY

[EPA R9-2021-07; FRL-9389-01-R9]

CERCLA Cashout Settlement Agreement for the C-Brite Removal Site in Harbor City; Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (EPA), has entered into a proposed settlement, embodied in a Cashout Settlement Agreement for Ability to Pay Peripheral Parties (“Settlement Agreement”), with the Laffey Family Trust, dated August 6, 2001 (and amended January 24, 2013), and Virginia Laffey (collectively, “Settling Parties”), owners of the real property located at 1213 253rd Street, Harbor City, Los Angeles County, California, known as the Former C-Brite Metal Finishing Facility Site (“C-Brite Site” or “Site”). C-Brite Metal Finishing, Inc. operated a plating business at the Site from 1966 to 2017 and abandoned the property thereafter. Under the Settlement Agreement, the Settling Parties' CERCLA liability will be resolved in exchange for a lump sum payment of $100,000, which will be placed in a special account and used to fund response actions at the Site.

DATES: The Agency will consider public comments relating to the Settlement Agreement until April 15, 2022. EPA will consider all comments received and may modify or withdraw its consent to the Settlement Agreement if comments received disclose facts or considerations that indicate it is inappropriate, improper, or inadequate.

ADDRESSES: Please contact Harry Allen at Allen.HarryL@epa.gov or (415) 218-7406 to request a copy of the Settlement Agreement. Comments on the Settlement Agreement should be submitted in writing to Mr. Allen at Allen.HarryL@epa.gov. Comments should reference the C-Brite Site and the EPA Docket Number for the Settlement Agreement, EPA R9-2021-07. If for any reason you are not able to submit a comment by email, please contact Mr. Allen at (415) 218-7406 to make alternative arrangements for submitting your comment. EPA's response to comments received may be obtained by contacting Mr. Allen at Allen.HarryL@epa.gov or (415) 218-7406.

FOR FURTHER INFORMATION CONTACT: Harry Allen, On-Scene Coordinator (SFD-9-2), Superfund Division, U.S. EPA Region IX, 75 Hawthorne Street, San Francisco, CA 94105; email: Allen.HarryL@epa.gov; phone: (415) 218-7406.

Dated: March 9, 2022.
Michael Montgomery,
Director, Superfund and Emergency Management Division, EPA Region IX.

[FR Doc. 2022-05489 Filed 3-15-22; 8:45 am]

BILLING CODE 6560-50-P